EQUAL EMPLOYMENT OPPORTUNITY COMMISSION

Sunshine Act Meeting

AGENCY HOLDING THE MEETING: Equal Employment Opportunity Commission.

DATE AND TIME: Monday, May 16, 2005, 2 p.m. eastern time.

PLACE: Clarence M. Mitchell, Jr. Conference Room on the Ninth Floor of the EEOC Office Building, 1801 “L” Street, NW., Washington, DC 20507.

STATUS: The meeting will be open to the public.

MATTERS TO BE CONSIDERED: Open Session:

1. Announcement of Notation Votes, and

2. EEOC Repositioning Plan: Field Offices.

Note: In accordance with the Sunshine Act, the open session of the meeting will be open to public observation of the Commission's deliberations and voting. (In addition to publishing notices on EEOC Commission meetings in the Federal Register, the Commission also provides a recorded announcement a full week in advance on future Commission sessions.)

Please telephone (202) 633-7100 (voice) and (202) 663-4074 (TTY) at any time for information on these meetings.

CONTACT FOR FURTHER INFORMATION: Stephen Llewellyn, Acting Executive Office on (202) 663-4070.

Dated: This notice issued May 5, 2005.
Stephen Llewellyn,
Acting Executive Officer, Executive Secretariat.

[FR Doc. 05-9341 Filed 5-5-05; 3:26 pm]

BILLING CODE 6750-06-M